DEPARTMENT OF THE INTERIOR

Bureau of Land Management

[UT-921-1430-ET; UTU 042887]

Public Land Order No. 7650; Revocation of Public Land Order No. 852; Utah

Correction

In notice document E5-7485 appearing on page 75218 in the issue of Monday, December 19, 2005, make the following correction:

On page 75218, in the third column, in the EFFECTIVE DATE heading, “January 18, 2005” should read “January 18, 2006”.

[FR Doc. Z5-7485 Filed 1-24-06; 8:45 am]

BILLING CODE 1505-01-D